OFFICE OF PERSONNEL MANAGEMENT

Nonforeign Area Cost-of-Living Allowances; 2006 Interim Adjustments

AGENCY: Office of Personnel Management.

ACTION: Notice.

SUMMARY: This notice publishes the 2006 interim adjustments for the Pacific and Caribbean Nonforeign Area Cost-of-Living Allowance (COLA) areas. The Federal Government conducts COLA surveys in Alaska, Hawaii, Guam, Puerto Rico, and the U.S. Virgin Islands to set COLA rates. These surveys are conducted once every 3 years on a rotating basis. In between COLA surveys, the Government adjusts COLA rates for the areas not surveyed using the relative change in the Consumer Price Index (CPI) for the COLA area compared with the Washington-Baltimore CPI. The Pacific and Caribbean COLA areas were not surveyed in 2006. Therefore, OPM is calculating and publishing interim adjustments for these COLA areas. This notice also publishes a revised listing of the 2005 estimated Washington, DC, area middle income annual consumer expenditure data.

DATES: We will consider comments received on or before November 13, 2007.

ADDRESSES: Send or deliver comments to Charles D. Grimes III, Deputy Associate Director for Performance Management and Pay Systems, Strategic Human Resources Policy Division, Office of Personnel Management, Room 7300B, 1900 E Street, NW., Washington, DC 20415-8200; fax: (202) 606-4264; or e-mail: COLA@opm.gov.

FOR FURTHER INFORMATION CONTACT: J. Stanley Austin, (202) 606-2838; fax: (202) 606-4264; or e-mail: COLA@opm.gov.

SUPPLEMENTARY INFORMATION: Subpart B of part 591 of title 5, Code of Federal Regulations, requires the Office of Personnel Management (OPM) to set nonforeign area cost-of-living allowance (COLA) rates for U.S. Postal Service and white-collar Federal employees in Alaska, Hawaii, Guam and the Northern Mariana Islands, Puerto Rico, and the U.S. Virgin Islands (USVI). Section 591.223(a) prescribes that we conduct these surveys on a rotating basis, once every 3 years. Section 591.224 requires we adjust the previous COLA survey price indexes for the areas not surveyed by using the relative change in the Consumer Price Index (CPI) for the COLA area compared with the change in the Washington, DC, area CPI.

In 2006, we surveyed Anchorage, Fairbanks, and Juneau, Alaska. We did not survey the Caribbean or Pacific COLA areas. Therefore, we are adjusting the previous Caribbean and Pacific survey price indexes using the relative change in CPIs. As required by § 591.225, we used the CPI, All Urban Consumers (CPI-U), as published by the Bureau of Labor Statistics (BLS) for Honolulu and the Washington-Baltimore area and the Puerto Rico CPI as produced by the Puerto Rico Department of Work and Human Resources.

2004 Pacific Survey Results and Interim Adjustments

First, we computed the change in prices for the Honolulu area compared with the change in prices for the Washington-Baltimore area using the CPI-Us for each area. Table 1 shows this process.

Table 1.—Honolulu and Washington-Baltimore CPI-U Changes 2004 to 2006
Survey area | CPI-U
Honolulu 2004 CPI-U first half | 189.2
Honolulu 2006 CPI-U first half | 206.4
Honolulu change | 9.0909%
DC-Baltimore 2004 CPI-U first half | 118.3
DC-Baltimore 2006 CPI-U first half | 127.7
DC-Baltimore change | 7.9459%

Next, we multiplied the price indexes from the five 2004 Pacific surveys (Honolulu, Hawaii County, Kauai, Maui, and Guam) by the change in the Honolulu CPI-U and divided that by the change in the Washington-Baltimore CPI-U. The price index is the COLA survey index before the addition of the adjustment factor specified in § 591.227. The adjustment factor reflects differences in need, access to and availability of goods and services, and quality of life in the COLA area relative to the DC area and is a fixed amount. Therefore, it is not adjusted by the change in the CPI.

OPM published the 2004 Pacific survey report in the Federal Register on August 4, 2005, at 70 FR 44989. The report included the survey price indexes for each of the Pacific COLA areas. OPM revised these price indexes in a final rule published in the Federal Register on August 2, 2006, at 71 FR 43897.

Table 2 shows the interim adjustment process. For example, the 2004 Maui COLA survey adjusted index, as published in the Federal Register, is 131.50. The Maui adjustment factor is 7 points. Therefore, subtracting the adjustment factor shows 124.50 as the price index from the 2004 survey. We increased this price index by 9.0909% (i.e., multiplied by 1.090909), the change in the Honolulu CPI-U, and reduced it by 7.9459% (i.e., divided by 1.079459), the change in the Washington-Baltimore CPI-U, to give a new price index of 125.82. We then added the 7 point adjustment factor to the new price index, which yields a 2006 Maui Interim Adjustment COLA rate of 132.82.

Table 2.—Pacific COLA Area CPI-U Price Index Adjustments
| Honolulu | Hawaii Co | Kauai | Maui | Guam
2004 COLA Survey Indexes | 125.80 | 117.25 | 127.63 | 131.50 | 127.40
Adjustment Factors | 5 | 7 | 7 | 7 | 9
2004 COLA Survey Price Indexes | 120.80 | 110.25 | 120.63 | 124.50 | 118.40
2006 CPI Adjusted Price Indexes | 122.08 | 111.42 | 121.91 | 125.82 | 119.66
2006 COLA Indexes with Adj. Factors | 127.08 | 118.42 | 128.91 | 132.82 | 128.66

2005 Caribbean Survey Results and Interim Adjustments

The process we used to compute the interim adjustments for the Caribbean areas (i.e., Puerto Rico and USVI) is identical to the one for the Pacific areas except that we used the Puerto Rico CPI as produced by the Puerto Rico Department of Work and Human Resources, as specified in § 591.225. Table 3 shows the relative change in the Puerto Rico CPI compared with the Washington-Baltimore CPI-U.

Table 3.—Puerto Rico and Washington-Baltimore CPI-U Changes 2005 to 2006
Survey area | CPI-U
Puerto Rico 2005 CPI first half (June) | 277.2
Puerto Rico 2006 CPI first half (June) | 312.2
Puerto Rico change | 12.6263%
DC-Baltimore 2005 CPI-U first half | 122.8
DC-Baltimore 2006 CPI-U first half | 127.7
DC-Baltimore change | 3.9902%

We multiplied the Puerto Rico and USVI price indexes by the change in the Puerto Rico CPI and divided that by the change in the Washington-Baltimore CPI-U. OPM published price indexes for Puerto Rico and USVI in the 2005 Caribbean survey report at 71 FR 63179. As noted in section 4.2.3 of the report, we calculated the Puerto Rico survey index (103.32) after we re-priced water utilities based on a post-survey increase in water utility rates. The CPI for Puerto Rico already reflects this increase; therefore, we reverted to the pre-increase index level (103.06) to avoid duplication in the interim adjustment calculation. Table 4 shows the 2005 indexes, the interim adjustment process, and the final results.

Table 4.—Caribbean COLA Area CPI-U Price Index Adjustments
| Puerto Rico | USVI
2005 COLA Survey Indexes | 103.06 | 128.21
Adjustment Factors | 7 | 9
2005 COLA Survey Price Indexes | 96.06 | 119.21
2005 CPI Adjusted Price Indexes | 104.04 | 129.11
2005 COLA Indexes with Adj. Factors | 111.04 | 138.11

Interim Adjustments Summarized

In a proposed rule published on September 6, 2007, at 72 FR 51200, OPM proposed to adjust COLA rates based on the interim CPI adjustments. In the Pacific, the results indicate that COLA rates in all of the areas except Hawaii County are currently set at the appropriate levels. In Hawaii County, the results show that the COLA rate should be increased to 18 percent. In the Caribbean, the results indicate that the COLA rate for the U.S. Virgin Islands is currently set at the appropriate level and the rate for Puerto Rico should be increased to 11 percent. As noted in the proposed rule, OPM plans an additional adjustment to the Puerto Rico COLA rate based on the impact of the new Puerto Rico sales tax.

Consumer Expenditure Data

Appendix 2 of the 2005 COLA survey report included a listing of estimated DC area middle income annual consumer expenditures. We are publishing a revised listing of the consumer expenditure data with this notice. The revised listing contains the data we used in the 2005 survey index calculations.

Office of Personnel Management,
Linda M. Springer,
Director.

Appendix 2 of the 2005 survey report published on October 27, 2006, at 71 FR 63179, is revised to read as follows:

Appendix 2.—Estimated DC Area Middle Income Annual Consumer Expenditures
[Asterisks show Detailed Expenditure Categories (DECs) for which OPM surveyed items]
Level | Code | Group | Category name | Expenditures
1 | TOTALEXP |  | Total Expenditure | $53,419.79
2 | FOODTOTL | MEG | Food | 7,134.14
3 | CERBAKRY | PEG | Cereals and bakery products | 464.86
4 | CEREAL |  | Cereals and cereal products | 149.47
5 | 010110 |  | Flour | 6.94
5 | 010120 |  | Prepared flour mixes | 14.00
5 | 010210 |  | Ready-to-eat and cooked cereals* | 88.57
5 | 010310 |  | Rice* | 14.20
5 | 010320 |  | Pasta, cornmeal and other cereal products* | 25.76
4 | BAKERY |  | Bakery products | 315.39
5 | BREAD |  | Bread | 89.22
6 | 020110 |  | White bread* | 37.03
6 | 020210 |  | Bread, other than white* | 52.19
5 | CRAKCOOK |  | Crackers and cookies | 75.49
6 | 020510 |  | Cookies* | 46.97
6 | 020610 |  | Crackers | 28.53
5 | 020810 |  | Frozen and refrigerated bakery products* | 25.01
5 | OTHBAKRY |  | Other bakery products | 125.66
6 | 020310 |  | Biscuits and rolls* | 40.27
6 | 020410 |  | Cakes and cupcakes* | 39.02
6 | 020620 |  | Bread and cracker products | 4.14
6 | 020710 |  | Sweetrolls, coffee cakes, doughnuts | 31.61
6 | 020820 |  | Pies, tarts, turnovers | 10.62
3 | ANIMAL | PEG | Meats, poultry, fish, and eggs | 863.96
4 | BEEF |  | Beef | 243.93
5 | 030110 |  | Ground beef* | 89.22
5 | ROAST |  | Roast | 38.35
6 | 030210 |  | Chuck roast* | 14.35
6 | 030310 |  | Round roast* | 10.28
6 | 030410 |  | Other roast | 13.71
5 | STEAK |  | Steak | 94.50
6 | 030510 |  | Round steak* | 16.51
6 | 030610 |  | Sirloin steak* | 35.26
6 | 030710 |  | Other steak | 42.73
5 | 030810 |  | Other beef | 21.86
4 | PORK |  | Pork | 122.02
5 | 040110 |  | Bacon* | 22.76
5 | 040210 |  | Pork chops* | 25.15
5 | HAM |  | Ham | 26.83
6 | 040310 |  | Ham, not canned* | 25.98
6 | 040610 |  | Canned ham* | 0.85
5 | 040510 |  | Sausage | 17.68
5 | 040410 |  | Other pork | 29.59
4 | OTHRMEAT |  | Other meats | 101.89
5 | 050110 |  | Frankfurters* | 23.20
5 | LNCHMEAT |  | Lunch meats (cold cuts) | 71.41
6 | 050210 |  | Bologna, liverwurst, salami* | 19.93
6 | 050310 |  | Other lunchmeats | 51.48
5 | LAMBOTHR |  | Lamb, organ meats and others | 7.27
6 | 050410 |  | Lamb and organ meats | 5.49
6 | 050900 |  | Mutton, goat and game | 1.78
4 | POULTRY |  | Poultry | 138.17
5 | CHICKEN |  | Fresh and frozen chickens | 111.07
6 | 060110 |  | Fresh and frozen whole chicken* | 31.90
6 | 060210 |  | Fresh and frozen chicken parts* | 79.16
5 | 060310 |  | Other poultry | 27.10
4 | FISHSEA |  | Fish and seafood | 227.05
5 | 070110 |  | Canned fish and seafood* | 29.02
5 | 070230 |  | Fresh fish and shellfish* | 124.88
5 | 070240 |  | Frozen fish and shellfish* | 73.16
4 | 080110 |  | Eggs* | 30.90
3 | DAIRY | PEG | Dairy products | 340.36
4 | MILKCRM |  | Fresh milk and cream | 124.54
5 | 090110 |  | Fresh milk, all types* | 111.20
5 | 090210 |  | Cream | 13.33
4 | OTHDAIRY |  | Other dairy products | 215.82
5 | 100110 |  | Butter | 16.56
5 | 100210 |  | Cheese* | 107.77
5 | 100410 |  | Ice cream and related products* | 63.49
5 | 100510 |  | Miscellaneous dairy products | 28.01
3 | FRUITVEG | PEG | Fruits and vegetables | 428.27
4 | FRSHFRUT |  | Fresh fruits | 203.54
5 | 110110 |  | Apples* | 40.79
5 | 110210 |  | Bananas* | 33.54
5 | 110310 |  | Oranges* | 21.79
5 | 110510 |  | Citrus fruits, excluding oranges | 17.70
5 | 110410 |  | Other fresh fruits | 89.71
4 | FRESHVEG |  | Fresh vegetables | 224.73
5 | 120110 |  | Potatoes* | 40.62
5 | 120210 |  | Lettuce* | 30.37
5 | 120310 |  | Tomatoes* | 41.11
5 | 120410 |  | Other fresh vegetables | 112.63
3 | PROCFOOD | PEG | Processed Foods | 826.00
4 | PROCFRUT |  | Processed fruits | 123.01
5 | FRZNFRUT |  | Frozen fruits and fruit juices | 12.47
6 | 130110 |  | Frozen orange juice* | 5.09
6 | 130121 |  | Frozen fruits | 4.11
6 | 130122 |  | Frozen fruit juices | 3.26
5 | 130310 |  | Canned fruits* | 18.13
5 | 130320 |  | Dried fruit | 7.03
5 | 130211 |  | Fresh fruit juice | 23.15
5 | 130212 |  | Canned and bottled fruit juice* | 62.24
4 | PROCVEG |  | Processed vegetables | 97.75
5 | 140110 |  | Frozen vegetables* | 31.86
5 | CANDVEG |  | Canned and dried vegetables and juices | 65.89
6 | 140210 |  | Canned beans* | 13.57
6 | 140220 |  | Canned corn | 8.01
6 | 140230 |  | Canned miscellaneous vegetables | 21.79
6 | 140320 |  | Dried peas | 0.24
6 | 140330 |  | Dried beans | 2.66
6 | 140340 |  | Dried miscellaneous vegetables | 9.02
6 | 140310 |  | Dried processed vegetables | 0.73
6 | 140410 |  | Frozen vegetable juices | 0.16
6 | 140420 |  | Fresh and canned vegetable juices | 9.71
4 | MISCFOOD |  | Miscellaneous foods | 605.25
5 | FRZNPREP |  | Frozen prepared foods | 124.46
6 | 180210 |  | Frozen meals* | 40.33
6 | 180220 |  | Other frozen prepared foods | 84.14
5 | 180110 |  | Canned andpackaged soups* | 40.70
5 | SNACKS |  | Potato chips, nuts, and other snacks | 123.63
6 | 180310 |  | Potato chips and other snacks* | 96.36
6 | 180320 |  | Nuts | 27.27
5 | CONDMNTS |  | Condiments and seasonings | 100.94
6 | 180410 |  | Salt, spices, other seasonings* | 23.71
6 | 180420 |  | Olives, pickles, relishes | 12.41
6 | 180510 |  | Sauces and gravies* | 42.90
6 | 180520 |  | Baking needs and miscellaneous products | 21.92
5 | OTHRPREP |  | Other canned and packaged prepared foods | 174.30
6 | 180611 |  | Prepared salads | 20.81
6 | 180612 |  | Prepared desserts* | 12.66
6 | 180620 |  | Baby food* | 32.54
6 | 180710 |  | Miscellaneous prepared foods | 107.71
6 | 180720 |  | Vitamin supplements | 0.58
5 | 190904 |  | Food prepared by consumer on out-of-town trips | 41.20
3 | OTHRFOOD | PEG | Other food at home | 182.71
4 | SWEETS |  | Sugar and other sweets | 107.00
5 | 150110 |  | Candy and chewing gum* | 68.68
5 | 150211 |  | Sugar* | 14.65
5 | 150212 |  | Artificial sweeteners* | 4.85
5 | 150310 |  | Jams, preserves, other sweets* | 18.83
4 | FATSOILS |  | Fats and oils | 75.71
5 | 160110 |  | Margarine* | 9.85
5 | 160211 |  | Fats and oils* | 20.63
5 | 160212 |  | Salad dressings* | 22.71
5 | 160310 |  | Nondairy cream and imitation milk* | 10.57
5 | 160320 |  | Peanut butter | 11.95
3 | NALCBEVG | PEG | Nonalcoholic beverages | 244.87
4 | 170110 |  | Cola* | 86.74
4 | 170210 |  | Other carbonated drinks | 43.97
4 | COFFEE |  | Coffee | 34.00
5 | 170310 |  | Roasted coffee* | 23.19
5 | 170410 |  | Instant and freeze dried coffee | 10.80
4 | 170510 |  | Noncarbonated fruit flavored drinks* | 16.51
4 | 170520 |  | Tea | 13.75
4 | 200112 |  | Nonalcoholic beer | 0.28
4 | 170530 |  | Other nonalcoholic beverages and ice | 49.62
3 | FOODAWAY | PEG | Food away from home | 31.76
4 | RESTRANT |  | Meals at restaurants, carry-outs and other | 2,682.01
5 | LUNCH |  | Lunch | 1,000.00
6 | 190111 |  | Lunch at fast food, take-out, delivery, etc.* | 567.83
6 | 190112 |  | Lunch at full service restaurants* | 297.91
6 | 190113 |  | Lunch at vending machines/mobile vendors | 12.34
6 | 190114 |  | Lunch at employer and school cafeterias | 122.70
5 | DINNER |  | Dinner | 974.84
6 | 190211 |  | Dinner at fast food, take-out, delivery, etc.* | 334.65
6 | 190212 |  | Dinner at full service restaurants* | 631.54
6 | 190213 |  | Dinner at vending machines/mobile vendors | 2.82
6 | 190214 |  | Dinner at employer and school cafeterias | 5.84
5 | SNKNABEV |  | Snacks and nonalcoholic beverages | 400.30
6 | 190311 |  | Snacks/nonalcoholic bev. at fast food, etc.* | 291.19
6 | 190312 |  | Snacks/nonalcoholic bev. at full svc. restaurants | 44.46
6 | 190313 |  | Snacks/nonalcoholic bev. at vending mach., etc | 51.78
6 | 190314 |  | Snacks/nonalcoholic bev. cafeterias | 12.88
5 | BRKFBRUN |  | Breakfast and brunch | 306.10
6 | 190321 |  | Breakfast & brunch at fast food, take-out, etc.* | 155.78
6 | 190322 |  | Breakfast & brunch at full service restaurants* | 139.55
6 | 190323 |  | Breakfast & brunch at vending machines | 2.46
6 | 190324 |  | Breakfast & brunch at cafeterias | 8.30
4 | NONRESME |  | Non Restaurant Meals | 473.75
5 | 190901 |  | Board (including at school) | 22.63
5 | 190902 |  | Catered affairs | 62.78
5 | 190903 |  | Food on out-of-town trips | 255.51
5 | 790430 |  | School lunches | 92.14
5 | 800700 |  | Meals as pay | 40.69
3 | ALCBEVG | PEG | Alcoholic beverages | 627.36
4 | ALCHOME |  | At home | 405.24
5 | 200111 |  | Beer and ale* | 203.81
5 | 200210 |  | Whiskey | 25.39
5 | 200310 |  | Wine* | 130.32
5 | 200410 |  | Other alcoholic beverages | 45.72
4 | ALCAWAY |  | Away from home | 222.12
5 | BEERNALE |  | Beer and ale | 97.76
6 | 200511 |  | Beer and ale at fast food, take-out, etc | 19.39
6 | 200512 |  | Beer and ale at full service restaurants* | 77.80
6 | 200513 |  | Beer and ale at vending machines, etc | 0.05
6 | 200516 |  | Beer and ale at catered affairs | 0.51
5 | WINE |  | Wine | 26.01
6 | 200521 |  | Wine at fast food, take-out, delivery, etc | 2.61
6 | 200522 |  | Wine at full service restaurants* | 23.34
6 | 200523 |  | Wine at vending machines and mobile vendors |
6 | 200526 |  | Wine at catered affairs | 0.06
5 | OTHALCBV |  | Other alcoholic beverages | 98.36
6 | 200531 |  | Other alcoholic bev. at fast food, take-out, etc | 14.17
6 | 200532 |  | Other alcoholic bev. at full service restaurants | 43.87
6 | 200533 |  | Other alcoholic bev. at vending machines | 0.10
6 | 200536 |  | Other alcoholic bev. at catered affairs | 0.23
6 | 200900 |  | Alcoholic beverages purchased on trips | 39.99
2 | SHEL&UTL | MEG | Shelter and Utilities | 190.87
3 | SHELTER | PEG | Shelter | 17,017.07
4 | RNTLEQ |  | Rented Equivalence (estimated monthly × 12) | 13,332.00
4 | RENTXX |  | Rented Dwelling (rent minus tenants ins.)* | 3,251.64
4 | 350110 |  | Tenants Insurance (tenants ins × 2)* | 36.27
4 | OTHLODGE |  | Other Lodging (other minus housing at school) | 397.13
3 | ENERUT | PEG | Energy Utilities* | 1.18
3 | WATERX | PEG | Water and other public services* | 362.63
2 | HHF&SUPP | MEG | Household Furnishings and Supplies | 2.19
3 | HHOPER | PEG | Household operations | 610.69
4 | HHPERSRV |  | Personal services | 395.00
5 | 340210 |  | Babysitting and child care* | 83.82
6 | 340211 |  | Child care in own home | 32.61
6 | 340212 |  | Child care outside own home | 51.21
5 | 340906 |  | Care for elderly, invalids, handicapped, etc | 16.07
5 | 340910 |  | Adult day care centers | 1.70
5 | 670310 |  | Day-care centers, nursery, and preschools* | 293.41
4 | HHOTHXPN |  | Other household expenses | 215.69
5 | 340310 |  | Housekeeping services* | 49.32
5 | 340410 |  | Gardening, lawn care service* | 62.72
5 | 340420 |  | Water softening service | 3.34
5 | 340520 |  | Household laundry and dry cleaning, sent out | 0.80
5 | 340530 |  | Coin-operated household laundry & dry cleaning | 3.65
5 | 340914 |  | Services for termite/pest control | 11.20
5 | 340915 |  | Home security system service fee | 15.83
5 | 340903 |  | Other home services | 7.58
5 | 330511 |  | Termite/pest control products | 1.14
5 | 340510 |  | Moving, storage, freight express* | 33.51
5 | 340620 |  | Appliance repair, including service center | 12.53
5 | 340630 |  | Reupholstering, furniture repair | 3.61
5 | 340901 |  | Repairs/rentals of lawn/garden equipment | 6.17
5 | 340907 |  | Appliance rental | 2.09
5 | 340908 |  | Rental of office equip. for nonbusiness use | 0.66
5 | 340913 |  | Repair of miscellaneous household equip | 1.52
5 | 990900 |  | Rental/installation of dishwashers/disposals |
3 | HKPGSUPP | PEG | Housekeeping supplies | 631.49
4 | LAUNDRY |  | Laundry and cleaning supplies | 147.87
5 | 330110 |  | Soaps and detergents* | 80.52
5 | 330210 |  | Other laundry cleaning products | 67.35
4 | HKPGOTHR |  | Other household products | 317.42
5 | 330310 |  | Cleansing & toilet tissue, paper towels/napkins* | 99.04
5 | 330510 |  | Miscellaneous household products | 143.56
5 | 330610 |  | Lawn and garden supplies* | 74.82
4 | POSTAGE |  | Postage and stationery | 166.20
5 | 330410 |  | Stationery, stationery supplies, giftwraps* | 81.08
5 | 340110 |  | Postage | 79.67
6 | STAMP |  | Stamp* | 75.37
6 | PARPST |  | Parcel Post* | 4.30
5 | 340120 |  | Delivery services | 5.46
3 | TEX&RUGS | PEG | Textiles and Area Rugs | 183.15
4 | HHTXTILE |  | Household textiles | 156.20
5 | 280110 |  | Bathroom linens* | 27.07
5 | 280120 |  | Bedroom linens* | 71.77
5 | 280130 |  | Kitchen and dining room linens | 12.25
5 | 280210 |  | Curtains and draperies | 21.41
5 | 280220 |  | Slipcovers, decorative pillows | 6.33
5 | 280230 |  | Sewing materials for slipcovers, curtains, etc | 15.89
5 | 280900 |  | Other linens | 1.49
4 | FLOORCOV |  | Floor coverings | 26.96
5 | RNTCARPT |  | Wall-to-wall carpeting (renter) | 0.01
6 | 230134 |  | Wall-to-wall carpet (renter) |
6 | 320163 |  | Wall-to-wall carpet (replacement) (renter) | 0.01
5 | 320111 |  | Floor coverings, nonpermanent* | 26.94
3 | FURNITUR | PEG | Furniture | 509.16
4 | 290110 |  | Mattress and springs* | 59.98
4 | 290120 |  | Other bedroom furniture | 105.19
4 | 290210 |  | Sofas | 125.89
4 | 290310 |  | Living room chairs* | 60.36
4 | 290320 |  | Living room tables | 23.94
4 | 290410 |  | Kitchen, dining room furniture* | 46.49
4 | 290420 |  | Infants' furniture | 8.86
4 | 290430 |  | Outdoor furniture | 13.08
4 | 290440 |  | Wall units, cabinets/other occasional furniture | 65.38
3 | MAJAPPL | PEG | Major appliances | 196.71
4 | 230116 |  | Dishwashers (built-in), disposals, range hoods | 13.97
5 | 230117 |  | Dishwasher—owned home | 0.63
5 | 230118 |  | Dishwasher rented home | 13.34
4 | 300110 |  | Refrigerators, freezers* | 45.99
5 | 300111 |  | Refrigerators, freezers (renter) | 5.92
5 | 300112 |  | Refrigerators, freezers (owned home) | 40.07
4 | 300210 |  | Washing machines* | 27.81
5 | 300211 |  | Washing machines (renter) | 5.95
5 | 300212 |  | Washing machines (owned home) | 21.87
4 | 300220 |  | Clothes dryers | 19.88
5 | 300221 |  | Clothes dryers (renter) | 4.91
5 | 300222 |  | Clothes Dryer (owned home) | 14.97
4 | 300310 |  | Cooking stoves, ovens* | 31.99
5 | 300311 |  | Cooking stoves, ovens (renter) | 1.85
5 | 300312 |  | Cooking stoves, ovens (owned home) | 30.13
4 | 300320 |  | Microwave ovens | 7.64
5 | 300321 |  | Microwave ovens (renter) | 1.88
5 | 300322 |  | Microwave ovens (owned home) | 5.76
4 | 300330 |  | Portable dishwasher | 1.47
5 | 300331 |  | Portable dishwasher (renter) | 0.22
5 | 300332 |  | Portable dishwasher (owned home) | 1.25
4 | 300410 |  | Window air conditioners | 47.96
5 | 300411 |  | Window air conditioners (renter) | 1.48
5 | 300412 |  | Window air conditioners (owned home) | 5.10
5 | 320511 |  | Electric floor cleaning equipment* | 33.78
5 | 320512 |  | Sewing machines | 7.02
5 | 300900 |  | Miscellaneous household appliances | 0.59
3 | SMAPPHWR | PEG | Small appliances, miscellaneous housewares | 144.28
4 | HOUSWARE |  | Housewares | 106.99
5 | 320310 |  | Plastic dinnerware | 2.53
5 | 320320 |  | China and other dinnerware* | 14.13
5 | 320330 |  | Flatware | 5.49
5 | 320340 |  | Glassware | 14.51
5 | 320350 |  | Silver serving pieces | 10.71
5 | 320360 |  | Other serving pieces | 1.77
5 | 320370 |  | Nonelectric cookware* | 21.45
5 | 320380 |  | Tableware, nonelectric kitchenware | 36.40
4 | SMLLAPPL |  | Small appliances | 37.29
5 | 320521 |  | Small electric kitchen appliances* | 26.67
5 | 320522 |  | Portable heating and cooling equipment | 10.62
3 | MISCHHEQ | PEG | Miscellaneous household equipment | 632.71
4 | 320120 |  | Window coverings | 24.78
4 | 320130 |  | Infants' equipment | 16.15
4 | 320140 |  | Laundry and cleaning equip | 17.62
4 | 320150 |  | Outdoor equipment* | 21.70
4 | 320210 |  | Clocks | 4.51
4 | 320220 |  | Lamps and lighting fixtures | 13.87
4 | 320231 |  | Other household decorative items | 151.27
4 | 320232 |  | Telephones and accessories* | 35.99
4 | 320410 |  | Lawn and garden equipment* | 82.56
4 | 320420 |  | Power tools* | 43.54
4 | 320901 |  | Office furniture for home use* | 8.69
4 | 320902 |  | Hand tools* | 12.30
4 | 320903 |  | Indoor plants, fresh flowers* | 47.68
4 | 320904 |  | Closet and storage items | 12.80
4 | 340904 |  | Rental of furniture | 5.16
4 | 430130 |  | Luggage | 5.88
4 | 690210 |  | Telephone answering devices | 1.25
4 | 690220 |  | Calculators | 1.13
4 | 690230 |  | Business equipment for home use | 2.18
4 | 320430 |  | Other hardware | 59.83
4 | 690242 |  | Smoke alarms (owned home) | 1.50
4 | 690241 |  | Smoke alarms (renter) | 0.30
4 | 690243 |  | Smoke alarms (owned vacation) |
4 | 690245 |  | Other household appliances (owned home) | 5.03
4 | 690244 |  | Other household appliances (renter) | 1.03
4 | 320905 |  | Miscellaneous household equipment and parts | 55.97
2 | APPAREL | MEG | Apparel and services | 21.79
3 | MENBOYS | PEG | Men and boys | 502.12
4 | MENS |  | Men, 16 and over | 416.91
5 | 360110 |  | Men's suits* | 25.98
5 | 360120 |  | Men's sportcoats, tailored jackets | 8.66
5 | 360210 |  | Men's coats and jackets* | 34.18
5 | 360311 |  | Men's underwear* | 26.44
5 | 360312 |  | Men's hosiery | 15.94
5 | 360320 |  | Men's nightwear | 2.57
5 | 360330 |  | Men's accessories | 31.31
5 | 360340 |  | Men's sweaters and vests | 13.01
5 | 360350 |  | Men's active sportswear | 20.78
5 | 360410 |  | Men's shirts* | 90.85
5 | 360511 |  | Men's pants* | 110.74
5 | 360512 |  | Men's shorts, shorts sets | 25.89
5 | 360901 |  | Men's uniforms | 6.33
5 | 360902 |  | Men's costumes | 4.24
4 | BOYS |  | Boys, 2 to 15 | 85.20
5 | 370110 |  | Boys' coats and jackets | 6.21
5 | 370120 |  | Boys' sweaters | 2.64
5 | 370130 |  | Boys' shirts* | 19.42
5 | 370211 |  | Boys' underwear | 7.26
5 | 370212 |  | Boys' nightwear | 1.53
5 | 370213 |  | Boys' hosiery | 4.10
5 | 370220 |  | Boys' accessories | 3.18
5 | 370311 |  | Boys' suits, sportcoats, vests | 1.79
5 | 370312 |  | Boys' pants* | 21.85
5 | 370313 |  | Boys' shorts, shorts sets | 7.38
5 | 370903 |  | Boys' uniforms | 2.82
5 | 370904 |  | Boys' active sportswear | 4.20
5 | 370902 |  | Boys' costumes | 2.82
3 | WMNSGRLS | PEG | Women and girls | 925.48
4 | WOMENS |  | Women, 16 and over | 809.92
5 | 380110 |  | Women's coats and jackets* | 84.81
5 | 380210 |  | Women's dresses* | 75.94
5 | 380311 |  | Women's sportcoats, tailored jackets | 4.87
5 | 380312 |  | Women's vests and sweaters* | 56.78
5 | 380313 |  | Women's shirts, tops, blouses* | 158.20
5 | 380320 |  | Women's skirts | 27.47
5 | 380331 |  | Women's pants* | 121.82
5 | 380332 |  | Women's shorts, shorts sets | 27.98
5 | 380340 |  | Women's active sportswear | 45.51
5 | 380410 |  | Women's sleepwear | 44.02
5 | 380420 |  | Women's undergarments | 51.96
5 | 380430 |  | Women's hosiery | 23.06
5 | 380510 |  | Women's suits* | 28.98
5 | 380901 |  | Women's accessories* | 43.22
5 | 380902 |  | Women's uniforms | 7.98
5 | 380903 |  | Women's costumes | 7.33
4 | GIRLS |  | Girls, 2 to 15 | 115.56
5 | 390110 |  | Girls' coats and jackets | 9.36
5 | 390120 |  | Girls' dresses and suits* | 9.32
5 | 390210 |  | Girls' shirts, blouses, sweaters* | 21.29
5 | 390221 |  | Girls' skirts and pants* | 28.77
5 | 390222 |  | Girls' shorts, shorts sets | 9.49
5 | 390230 |  | Girls' active sportswear | 9.15
5 | 390310 |  | Girls' underwear and sleepwear | 8.42
5 | 390321 |  | Girls' hosiery | 4.93
5 | 390322 |  | Girls' accessories | 7.58
5 | 390901 |  | Girls' uniforms | 2.76
5 | 390902 |  | Girls' costumes | 4.50
3 | INFANT | PEG | Children under 2 | 90.35
4 | 410110 |  | Infant coat, jacket, snowsuit | 2.38
4 | 410120 |  | Infant dresses, outerwear | 23.90
4 | 410130 |  | Infant underwear* | 50.03
4 | 410140 |  | Infant nightwear, loungewear* | 4.55
4 | 410901 |  | Infant accessories | 9.48
3 | FOOTWEAR | PEG | Footwear | 391.47
4 | 400110 |  | Men's footwear* | 125.68
4 | 400210 |  | Boys' footwear | 53.75
4 | 400310 |  | Women's footwear* | 171.42
4 | 400220 |  | Girls' footwear | 40.62
3 | OTHAPPRL | PEG | Other apparel products and services | 288.37
4 | 420110 |  | Material for making clothes | 8.83
4 | 420120 |  | Sewing patterns and notions | 8.47
4 | 430110 |  | Watches* | 24.45
4 | 430120 |  | Jewelry* | 130.18
4 | 440110 |  | Shoe repair and other shoe service | 1.25
4 | 440120 |  | Coin-operated apparel laundry/dry cleaning* | 47.64
4 | 440130 |  | Alteration, repair and tailoring of apparel | 6.19
4 | 440140 |  | Clothing rental | 3.06
4 | 440150 |  | Watch and jewelry repair | 4.28
4 | 440210 |  | Apparel laundry & cleaning not coin-operated* | 53.51
4 | 440900 |  | Clothing storage | 0.50
2 | TRANS | MEG | Transportation | 843.20
3 | MOTVEHCO | PEG | Motor Vehicle Costs | 4,545.54
4 | VEHPURCH |  | Vehicle purchases (net outlay) | 3,659.
5 | NEWCARS |  | Cars and trucks, new | 1,873.20
6 | 450110 |  | New cars* | 865.68
6 | 450210 |  | New trucks | 1.52
5 | USEDCARS |  | Cars and trucks, used | 1,717.02
6 | 460110 |  | Used cars | 748.86
6 | 460901 |  | Used trucks | 968.16
5 | OTHVEHCL |  | Other vehicles | 69.17
6 | 450220 |  | New motorcycles | 38.17
6 | 450900 |  | New aircraft | 4.13
6 | 460902 |  | Used motorcycles | 26.87
6 | 460903 |  | Used aircraft |
4 | VEHFINCH |  | Vehicle finance charges | 488.57
5 | 510110 |  | Automobile finance charges* | 232.74
5 | 510901 |  | Truck finance charges | 233.70
5 | 510902 |  | Motorcycle and plane finance charges | 3.57
5 | 850300 |  | Other vehicle finance charges | 18.55
4 | LEASVEH |  | Leased vehicles | 221.66
5 | 450310 |  | Car lease payments | 111.26
5 | 450313 |  | Cash downpayment (car lease) | 7.71
5 | 450314 |  | Termination fee (car lease) | 0.50
5 | 450410 |  | Truck lease payments | 100.58
5 | 450413 |  | Cash downpayment (truck lease) | 0.79
5 | 450414 |  | Termination fee (truck lease) | 0.82
4 | VEHXP&LV |  | Other Vehicle Expenses and Licenses | 175.91
5 | 520110 |  | State & Local Registration* | 102.22
6 | 520111 |  | Vehicle reg. state | 91.84
6 | 520112 |  | Vehicle reg. local | 10.38
5 | 520310 |  | Driver's license | 8.89
5 | 520410 |  | Vehicle inspection (added to S&L registration) | 9.55
5 | PARKING |  | Parking fees | 21.70
6 | 520531 |  | Parking fees in home city, excl. residence | 18.01
6 | 520532 |  | Parking fees, out-of-town trips | 3.69
5 | 520541 |  | Tolls | 11.27
5 | 520542 |  | Tolls on out-of-town trips | 3.66
5 | 520550 |  | Towing charges | 5.46
5 | 620113 |  | Automobile service clubs | 13.16
3 | GASOIL | PEG | Gasoline and motor oil | 15.14
4 | 470111 |  | Gasoline* | 1,376.17
4 | 470112 |  | Diesel fuel | 15.41
4 | 470113 |  | Gasoline on out-of-town trips | 96.39
4 | 470114 |  | Gasohol |
4 | 470211 |  | Motor oil | 11.20
4 | 470212 |  | Motor oil on out-of-town trips | 0.98
3 | CARP&R | PEG | Maintenance and repairs | 791.12
4 | CARPAR |  | Maintenance and Repair Parts | 206.75
5 | 470220 |  | Coolant, additives, brake, transmission fluids | 4.25
5 | 480110 |  | Tires—purchased, replaced, installed* | 117.97
5 | 480213 |  | Parts, equipment, and accessories* | 73.71
5 | 480214 |  | Vehicle audio equipment, excluding labor | 2.87
5 | 480212 |  | Vehicle products | 7.95
4 | CARREP |  | Maintenance and Repair Service* | 584.37
5 | 490000 |  | Misc. auto repair, servicing | 45.46
5 | 490110 |  | Body work and painting | 31.22
5 | 490211 |  | Clutch, transmission repair | 46.87
5 | 490212 |  | Drive shaft and rear-end repair | 7.56
5 | 490221 |  | Brake work, including adjustments | 50.15
5 | 490231 |  | Repair to steering or front-end | 15.58
5 | 490232 |  | Repair to engine cooling system | 19.70
5 | 490311 |  | Motor tune-up | 42.41
5 | 490312 |  | Lube, oil change, and oil filters | 74.18
5 | 490313 |  | Front-end alignment, wheel balance, rotation | 11.12
5 | 490314 |  | Shock absorber replacement | 3.55
5 | 490316 |  | Gas tank repair, replacement | 4.01
5 | 490318 |  | Repair tires and other repair work | 55.99
5 | 490319 |  | Vehicle air conditioning repair | 14.52
5 | 490411 |  | Exhaust system repair | 13.39
5 | 490412 |  | Electrical system repair | 33.41
5 | 490413 |  | Motor repair, replacement | 100.70
5 | 490900 |  | Auto repair service policy | 14.56
3 | 500110 | PEG | Vehicle insurance* | 976.09
3 | RENTVEH | PEG | Rented vehicles | 28.60
3 | PUBTRANS | PEG | Public transportation | 589.71
4 | 530110 |  | Airline fares* | 399.38
4 | 530210 |  | Intercity bus fares | 16.95
4 | 530510 |  | Intercity train fares | 23.94
4 | 530901 |  | Ship fares | 36.89
4 | LOCTRANS |  | Local Transportation (Not a CES item) | 112.56
5 | 530311 |  | Intracity mass transit fares | 65.35
5 | 530312 |  | Local trans.on out-of-town trips | 14.00
5 | 530411 |  | Taxi fares and limousine service on trips | 8.22
5 | 530412 |  | Taxi fares and limousine service* | 24.15
5 | 530902 |  | School bus | 0.84
2 | MEDICAL | MEG | Medical | 2,48.91
3 | HEALTINS | PEG | Health insurance* | 1,337.89
4 | COMHLTIN |  | Commercial health insurance | 270.98
5 | 580111 |  | Traditional fee for service health plan (not BCBS) | 90.77
5 | 580113 |  | Preferred provider health plan (not BCBS) | 180.21
4 | BCBS |  | Blue Cross, Blue Shield | 416.23
5 | 580112 |  | Traditional fee for service health plan (BCBS) | 79.25
5 | 580114 |  | Preferred provider health plan (BCBS) | 141.02
5 | 580312 |  | Health maintenance organization (BCBS) | 144.67
5 | 580904 |  | Commercial Medicare supplement (BCBS) | 45.55
5 | 580906 |  | Other health insurance (BCBS) | 5.74
4 | 580311 |  | Health maintenance organization (not BCBS) | 326.02
4 | 580901 |  | Medicare payments | 177.44
4 | COMEDOTH |  | Commercial Medicare suppl & health insurance | 147.21
5 | 580903 |  | Commercial Medicare supplement (not BCBS) | 84.91
5 | 580905 |  | Other health insurance (not BCBS) | 62.30
3 | MEDSERVS | PEG | Medical services | 689.24
4 | 560110 |  | Physician's services* | 172.07
4 | 560210 |  | Dental services* | 264.62
4 | 560310 |  | Eyecare services | 43.17
4 | 560400 |  | Service by professionals other than physician | 41.89
4 | 560330 |  | Lab tests, x-rays | 31.41
4 | 570110 |  | Hospital room* | 30.19
4 | 570210 |  | Hospital service other than room | 54.53
4 | 570240 |  | Medical care in retirement community |
4 | 570220 |  | Care in convalescent or nursing home | 30.38
4 | 570902 |  | Repair of medical equipment | 3.91
4 | 570230 |  | Other medical care services | 17.07
3 | DRUGS&ME | PEG | Drugs and Medical Supplies | 456.78
4 | DRUGS |  | Drugs | 359.87
5 | 550210 |  | Nonprescription drugs* | 62.53
5 | 550410 |  | Nonprescription vitamins | 31.48
5 | 540000 |  | Prescription drugs* | 265.86
4 | MEDSUPPL |  | Medical supplies | 96.91
5 | 550110 |  | Eyeglasses and contact lenses* | 47.34
5 | 550340 |  | Hearing aids | 12.32
5 | 550310 |  | Topicals and dressings* | 26.60
5 | 550320 |  | Medical equipment for general use | 2.87
5 | 550330 |  | Supportive and convalescent medical equip | 5.23
5 | 570901 |  | Rental of medical equipment | 1.31
5 | 570903 |  | Rental of supportive, convalescent equipment | 1.24
2 | RECREATN | MEG | Recreation | 246.45
3 | FEESADM | PEG | Fees and admissions | 553.89
4 | 610900 |  | Recreation expenses, out-of-town trips | 31.27
4 | 620111 |  | Social, recreation, civic club membership* | 86.07
4 | 620121 |  | Fees for participant sports* | 83.62
4 | 620122 |  | Participant sports, out-of-town trips | 23.03
4 | 620211 |  | Movie, theater, opera, ballet* | 113.81
4 | 620212 |  | Movie, other admissions, out-of-town trips | 57.96
4 | 620221 |  | Admission to sporting events | 31.87
4 | 620222 |  | Admission to sports events, out-of-town trips | 19.32
4 | 620310 |  | Fees for recreational lessons* | 75.66
4 | 620903 |  | Other entertainment services, out-of-town trips | 31.27
3 | TVAUDIO | PEG | Television, radios, sound equipment | 369.52
4 | TELEVSN |  | Televisions | 209.09
5 | 310110 |  | Black and white tv | 0.50
5 | 310120 |  | Color tv—console | 56.12
5 | 310130 |  | Color tv—portable, table model* | 36.18
5 | 310210 |  | VCR's and video disc players* | 33.37
5 | 310220 |  | Video cassettes, tapes, and discs* | 50.40
5 | 310230 |  | Video game hardware and software | 27.02
5 | 340610 |  | Repair of tv, radio, and sound equipment | 4.48
5 | 340902 |  | Rental of televisions | 1.01
4 | AUDIO |  | Radios, sound equipment | 160.43
5 | 310311 |  | Radios | 4.83
5 | 310312 |  | Phonographs |
5 | 310313 |  | Tape recorders and players | 8.59
5 | 310320 |  | Sound components and component systems* | 19.00
5 | 310331 |  | Miscellaneous sound equipment | 0.14
5 | 310332 |  | Sound equipment accessories | 7.64
5 | 310334 |  | Satellite dishes | 1.38
5 | 310341 |  | CD, tape, record and video mail order clubs | 7.87
5 | 310342 |  | Records, CDs, audio tapes, needles* | 39.92
5 | 340905 |  | Rental of VCR, radio, and sound equipment | 0.28
5 | 610130 |  | Musical instruments and accessories | 16.14
5 | 620904 |  | Rental and repair of musical instruments | 5.43
5 | 620912 |  | Rental of video cassettes, tapes, & discs* | 49.21
3 | PETSPLAY | PEG | Pets, toys, and playground equipment | 397.06
4 | PETS |  | Pets | 282.85
5 | 610310 |  | Pet food* | 116.44
5 | 610320 |  | Pet purchase, supplies, medicine | 76.66
5 | 620410 |  | Pet services | 21.50
5 | 620420 |  | Vet services* | 68.24
4 | 610110 |  | Toys, games, hobbies, and tricycles* | 112.26
4 | 610120 |  | Playground equipment | 1.96
3 | ENTEROTH | PEG | Other entertainment supplies, equipment, and svcs | 339.69
4 | UNMTRBOT |  | Unmotored recreational vehicles | 41.92
5 | 600121 |  | Boat without motor and boat trailers | 6.68
5 | 600122 |  | Trailer and other attachable campers | 35.24
4 | PWRSPVEH |  | Motorized recreational vehicles* | 128.92
5 | 600141 |  | Purchase of motorized camper | 87.77
5 | 600142 |  | Purchase of other vehicle | 11.81
5 | 600132 |  | Purchase of boat with motor | 29.35
4 | RNTSPVEH |  | Rental of recreational vehicles | 2.95
5 | 520904 |  | Rental noncamper trailer | 0.02
5 | 520907 |  | Boat and trailer rental out-of-town trips | 0.28
5 | 620909 |  | Rental of campers on out-of-town trips | 0.77
5 | 620919 |  | Rental of other vehicles on out-of-town trips | 1.60
5 | 620906 |  | Rental of boat | 0.21
5 | 620921 |  | Rental of motorized camper |
5 | 620922 |  | Rental of other RV's | 0.06
4 | 600110 |  | Outboard motors | 1.58
4 | 520901 |  | Docking and landing fees | 4.05
4 | RECEQUIP |  | Sports, recreation and exercise equipment | 99.06
5 | 600210 |  | Athletic gear, game tables, exercise equip* | 37.45
5 | 600310 |  | Bicycles | 8.05
5 | 600410 |  | Camping equipment | 6.74
5 | 600420 |  | Hunting and fishing equipment | 25.21
5 | 600430 |  | Winter sports equipment | 3.20
5 | 600901 |  | Water sports equipment | 3.19
5 | 600902 |  | Other sports equipment | 13.42
5 | 620908 |  | Rental and repair of misc. sports equipment | 1.80
4 | PHOTOEQ |  | Photographic equipment, supplies and services | 54.86
5 | 610210 |  | Film* | 11.15
5 | 610220 |  | Other photographic supplies | 0.30
5 | 620330 |  | Film processing* | 16.06
5 | 620905 |  | Repair and rental of photographic equipment | 0.21
5 | 610230 |  | Photographic equipment | 16.78
5 | 620320 |  | Photographer fees | 10.35
4 | 610901 |  | Fireworks | 1.21
4 | 610902 |  | Souvenirs | 0.10
4 | 610903 |  | Visual goods | 0.20
4 | 620913 |  | Pinball, electronic video games | 4.85
3 | PERSPROD | PEG | Personal care products | 352.04
4 | 640110 |  | Hair care products* | 76.06
4 | 640120 |  | Nonelectric articles for the hair | 9.72
4 | 640130 |  | Wigs and hairpieces | 1.68
4 | 640210 |  | Oral hygiene products, articles | 37.09
4 | 640220 |  | Shaving needs | 24.28
4 | 640310 |  | Cosmetics, perfume, bath preparation* | 149.89
4 | 640410 |  | Deodorants, feminine hygiene, misc. pers. care | 43.13
4 | 640420 |  | Electric personal care appliances | 10.20
3 | PERSSERV | PEG | Personal care services | 291.50
4 | 650310 |  | Personal care service* | 290.98
4 | 650900 |  | Repair of personal care appliances | 0.52
3 | READING | PEG | Reading | 157.75
4 | 590110 |  | Newspapers | 63.41
5 | 590111 |  | Newspaper subscriptions* | 49.01
5 | 590112 |  | Newspaper, non-subscriptions* | 14.40
4 | 590210 |  | Magazines | 29.80
5 | 590211 |  | Magazine subscriptions* | 19.20
5 | 590212 |  | Magazines, non-subscriptions* | 10.60
4 | 590900 |  | Newsletters |
4 | 590220 |  | Books thru book clubs | 10.02
4 | 590230 |  | Books not thru book clubs* | 54.38
4 | 660310 |  | Encyclopedia and other sets of reference books | 0.13
2 | EDU&COMM | MEG | Education and Communication | 229.19
3 | EDUCATN | PEG | Education | 119.98
4 | 670210 |  | Elementary and high school tuition* | 94.35
4 | 660210 |  | School books, supplies, for elem. and H.S | 25.63
3 | COMMICAT | PEG | Communications | 19.27
4 | PHONE |  | Telephone services | 1,270.01
5 | 270101 |  | Telephone svcs in home city, excl. car phones* | 814.13
5 | 270102 |  | Telephone services for mobile car phones* | 428.43
5 | 270103 |  | Pager service | 1.71
5 | 270104 |  | Phone cards | 25.73
4 | 690114 |  | Computer information services* | 143.61
4 | 270310 |  | Community antenna or cable tv* | 571.65
3 | COMP&SVC | PEG | Computers and Computer Services | 189.93
4 | 690113 |  | Repair of computer systems for nonbus. use | 5.49
4 | 690111 |  | Computers & computer hardware nonbus. use* | 164.21
4 | 690112 |  | Computer software/accessories for nonbus. use | 20.23
2 | MISCMEG | MEG | Miscellaneous | 64.05
3 | TOBACCO | PEG | Tobacco products and smoking supplies | 219.08
4 | 630110 |  | Cigarettes* | 202.50
4 | 630210 |  | Other tobacco products | 15.58
4 | 630220 |  | Smoking accessories | 1.00
3 | MISC | PEG | Miscellaneous | 817.01
4 | 620925 |  | Miscellaneous fees | 18.84
4 | 620926 |  | Lotteries and pari-mutuel losses | 51.71
4 | 680110 |  | Legal fees* | 129.86
4 | 680140 |  | Funeral expenses* | 63.14
4 | 680210 |  | Safe deposit box rental | 4.20
4 | 680220 |  | Checking accounts, other bank service charges | 27.28
4 | 680901 |  | Cemetery lots, vaults, maintenance fees | 17.58
4 | 680902 |  | Accounting fees* | 55.94
4 | 680903 |  | Miscellaneous personal services | 43.25
4 | 710110 |  | Credit card interest and annual fees* | 292.74
4 | 900001 |  | Occupational expenses (old code) |
4 | 900002 |  | Occupational expenses | 42.54
4 | 790600 |  | Expenses for other properties | 63.50
4 | 880210 |  | Interest paid, home equity line of credit | 0.06
4 | 620115 |  | Shopping club membership fees | 6.36
3 | INSPENSN | PEG | Personal insurance and pensions | 545.95
4 | LIFEINSR |  | Life and other personal insurance* | 466.70
5 | 700110 |  | Life, endowment, annuity, other personal ins | 442.01
5 | 002120 |  | Other nonhealth insurance | 24.68
4 | PENSIONS |  | Pensions and Social Security | 49.26
5 | 800910 |  | Deductions for government retirement* | 116.12
5 | 800920 |  | Deductions for railroad retirement | 3.01
5 | 800931 |  | Deductions for private pensions | 513.91
5 | 800932 |  | Non-payroll deposit to retirement plans | 417.89
5 | 800940 |  | Deductions for Social Security | 3.32

[FR Doc. 07-4491 Filed 9-11-07; 8:45 am]

BILLING CODE 6325-39-P